DEPARTMENT OF THE INTERIOR

Fish and Wildlife Service

Emergency Exemption: Issuance of Permit for Endangered Species

AGENCY: Fish and Wildlife Service, Interior.

ACTION: Notice of emergency issuance of a permit for endangered species.

SUMMARY: The following permit was issued.

ADDRESSES: Documents and other information submitted for this application are available for review by any party who submits a written request to the U.S. Fish and Wildlife Service, Division of Management Authority, 4401 North Fairfax Drive, Room 700, Arlington, Virginia 22203; fax (703) 358-2281.

FOR FURTHER INFORMATION CONTACT: Division of Management Authority, telephone 703/358-2104.

SUPPLEMENTARY INFORMATION: On March 9, 2004, the U.S. Fish and Wildlife Service (Service) issued a permit (PRT-084147) to Marc Chandler, Oranjestad, Aruba, for the temporary import of one captive born female Siberian tiger (Panthera tigris altaica) for treatment of an emergency veterinary condition. The 30-day comment period required under the U.S. Endangered Species Act was waived pursuant to 16 U.S.C. 1539(c). This action was authorized under Section 10(c) of the Endangered Species Act of 1973, as amended (16 U.S.C. 1531, et seq.). The Service determined that a veterinary emergency existed effecting the life and welfare of the animal and no reasonable alternative was available. The tiger will remain in the United States for veterinary treatment and will then be re-exported.

The U.S. Fish and Wildlife Service has information collection approval from the Office of Management and Budget (OMB) through March 31, 2004, OMB Control Number 1018-0093. On March 8, 2004, the Service published a notice in the Federal Register (69 FR 10738) notifying the public that it has submitted a request to OMB to renew approval of this information collection for three (3) years. Federal Agencies may not conduct or sponsor and a person is not required to respond to a collection of information unless it displays a current valid OMB control number.

Dated: March 12, 2004.
Charles S. Hamilton,
Senior Permit Biologist, Branch of Permits, Division of Management Authority.

[FR Doc. 04-6906 Filed 3-26-04; 8:45 am]

BILLING CODE 4310-55-P